DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2007, there were six applications approved. This notice also includes information on nine applications, two approved in December 2006, three approved in January 2007, one approved in February 2007, and the remaining three approved in May 2007, inadvertently left off the December 2006, January 2007, February 2007, and May 2007 notices, respectively. Additionally, 19 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of 158.29.

PFC Applications Approved

Public Agency: County and City of Spokane, Spokane, Washington.

Application Number: 06-06-C-00-GEG.

Application Type: Impose and use a PFC.

PFC Level: $4.50.

Total PFC Revenue Approved in This Decision: $24,754,062.

Earliest Charge Effective Date: December 1, 2007.

Estimated Charge Expiration Date: April 1, 2012.

Class of Air Carriers Not Required To Collect PFC's: None.

Brief Description of Projects Approved for Collection and Use:

Security enhancements

Snow removal equipment

Brief Description of Project Partially Approved for Collection and Use: Planning and design for runway 3 extension.

Determination: Partially approved. The purpose and need for the final length has not been determined. The approved amount is limited to that amount that will fund the environmental planning and partial design needed in support of the environmental analysis.

Brief Description of Project Approved for Collection: Construction of runway 3 extension.

Brief Description of Withdrawn Project: Airport layout plan update.

Date of Withdrawal: August 23, 2006.

Decision Date: December 4, 2006.

FOR FURTHER INFORMATION CONTACT: Warren Ferrell, Northwest Mountain Region Airports Division, (425) 227-2612.

Public Agency: Wichita Airport Authority, Wichita, Kansas.

Application Number: 07-05-C-00-ICT.

Application Type: Impose and use a PFC.

PFC Level: $4.50.

Total PFC Revenue Approved in This Decision: $3,918,050.

Earliest Charge Effective Date: July 1, 2007.

Estimated Charge Expiration Date: October 1, 2008.

Class of Air Carriers Not Required To Collect PFC's: None.

Brief Description of Projects Approved for Collection and Use:

Taxiway N construction

Taxiway M construction

Taxiways L and H construction

Runway and taxiway shoulders/ blast pad rehabilitation

Airfield deicing vehicle

Three airfield plow trucks with sanders

Two dump trucks with snow plows

Safety building/ airport security

Brief Description of Disapproved Project: Airfield paint truck.

Determination: This truck is for routine maintenance activities and does not meet the requirements of 158.15(b).

Decision Date: December 29, 2006.

FOR FURTHER INFORMATION CONTACT: Lorna Sandridge, Central Region Airports Division, (816) 329-2641.

Public Agency: County and City of Twin Falls, Twin Falls, Idaho.

Application Number: 07-03-C-00-TWF.

Application Type: Impose and use a PFC.

PFC Level: $4.50.

Total PFC Revenue Approved in This Decision: $560,416.

Earliest Charge Effective Date: July 1, 2007.

Estimated Charge Expiration Date: October 1, 2011.

Class of Air Carriers Not Required To Collect PFC's: Air taxi/commercial operators utilizing aircraft having a seating capacity of less than 20 passengers.

Determination: Approved. Based on information submitted in the public agency's application, the FAA has determined that the proposed class accounts for less than 1 percent of the total annual enplanements at Joslin Field-Magic Valley Regional Airport.

Brief Description of Projects Approved for Collection and Use:

Runway 7/25 pavement rehabilitation

Taxilane reconstruction

Update airport master plan study

Taxiway and taxilane rehabilitation

Acquire snow plow and snow removal equipment

Construct snow removal equipment storage building

Security enhancements

Taxilane reconstruction

Construction of taxilanes 10, 11, and 12

Taxiway Delta extension

Acquire sweeper, snow plow, and snow blower

Apron rehabilitation

Access road rehabilitation

Runway 12 safety area

Decision Date: January 8, 2007

FOR FURTHER INFORMATION CONTACT: Trang Tran, Seattle Airports District Office, (425) 227-1662.

Public Agency: City of Manchester, New Hampshire.

Application Number: 06-11-C-00-MHT.

Application Type: Impose and use a PFC.

PFC Level: $3.00.

Total PFC Revenue Approved in This Decision: $17,257,727.

Earliest Charge Effective Date: January 1, 2020.

Estimated Charge Expiration Date: December 1, 2021.

Class of Air Carriers Not Required To Collect PFC's: On demand air taxi/ commercial operators.

Determination: Approved. Based on information submitted in the public agency's application, the FAA has determined that the proposed class accounts for less than 1 percent of the total annual enplanements at Manchester Airport.

Brief Description of Projects Approved for Collection and Use:

Reconstruction of a portion of runway 6/24 and improvements to the safety area

Reconstruction of a portion of taxiway E

Construction of a stub taxiway at taxiway T

Demolition of air traffic control tower

PFC application development

Brief Description of Projects Approved for Collection:

Glycol collection system

Extension of runway 24 safety area

Decision Date: January 17, 2007.

FOR FURTHER INFORMATION CONTACT: Priscilla Scott, New England Region Airports Division, (781) 238-7614.

Public Agency: City of Abilene, Texas.

Application Number: 07-02-C-00-ABI.

Application Type: Impose and use a PFC.

PFC Level: $4.50.

Total PFC Revenue Approved in This Decision: $2,519,008.

Earliest Charge Effective Date: July 1, 2008.

Estimated Charge Expiration Date: August 1, 2015.

Class of Air Carriers Not Required To Collect PFC's: None.

Brief Description of Projects Approved for Collection and Use:

Rehabilitate air carrier apron

Acquire snow removal equipment and interactive aircraft rescue and firefighting training system

Rehabilitate taxiways C and D lighting system

Improve runway 17L runway safety area

Security fence upgrades and installation of computer controlled access system

Drainage improvements

Extend taxiway D, phase I and phase II

Terminal building improvements, phase IV

Rehabilitate runway 17L/35R lighting system

Pavement maintenance management plan

Airport entrance road improvements

PFC application and administration costs

Decision Date: January 18, 2007.

FOR FURTHER INFORMATION CONTACT: Marcelino Sanchez, Texas Airports District Office, (817) 222-5652.

Public Agency: Meridian Airport Authority, Meridian, Mississippi.

Application Number: 07-09-C-00-MEI.

Application Type: Impose and use a PFC.

PFC Level: $4.50.

Total PFC Revenue Approved in This Decision: $61,057.

Earliest Charge Effective Date: April 1, 2009.

Estimated Charge Expiration Date: October 1, 2009.

Class of Air Carriers Not Required To Collect PFC's: None.

Brief Description of Projects Approved for Collection and Use:

Rehabilitate guidance signs

Wildlife assessment

Security equipment

Rehabilitate automatic gate

Install emergency generators

Taxiway A relocation design

Decision Date: February 13, 2007.

FOR FURTHER INFORMATION CONTACT: Barbara Simmons, Jackson Airports District Office, (601) 664-9881.

Public Agency: City of Brownsville, Texas.

Application Number: 07-03-C-00-BRO.

Application Type: Impose and use a PFC.

PFC Level: $4.50.

Total PFC Revenue Approved in This Decision: $470,349.

Earliest Charge Effective Date: June 1, 2008.

Estimated Charge Expiration Date: October 1, 2009.

Class of Air Carriers Not Required To Collect PFC's: None.

Brief Description of Projects Approved for Collection and Use:

Planning studies

Terminal building loading bridge

Acquire safety equipment

Runway 17 rehabilitation

Runway 13L/31R rehabilitation

Security system upgrade

Airfield sweeper

Apron expansion

Land acquisition

PFC application and administration fees

Decision Date: May 7, 2007.

FOR FURTHER INFORMATION CONTACT: Rodney Clark, Texas Airports District Office, (817) 222-5659.

Public Agency: Tri-Cities Airport Commission, Blountville, Tennessee.

Application Number: 07-03-C-00-TRI.

Application Type: Impose and use a PFC.

PFC Level: $4.50.

Total PFC Revenue Approved in This Decision: $1,264,140.

Earliest Charge Effective Date: March 1, 2012.

Estimated Charge Expiration Date: October 1, 2014.

Class of Air Carriers Not Required To Collect PFC's: None.

Brief Description of Projects Approved for Collection and Use:

Baggage claim system

Master plan update

Administrative fees

Decision Date: May 30, 2007.

FOR FURTHER INFORMATION CONTACT: Michael Thompson, Memphis Airports District Office, (901) 322-8188.

Public Agency: City of Orlando, Florida.

Application Number: 07-11-C-00-MCO.

Application Type: Impose and use a PFC.

PFC Level: $3.00.

Total PFC Revenue Approved in This Decision: $48,580,000.

Earliest Charge Effective Date: November 1, 2018.

Estimated Charge Expiration Date: June 1, 2019.

Class of Air Carriers Not Required To Collect PFC's: None.

Brief Description of Projects Approved for Collection and Use:

Airside terminals 1 and 4, Federal Inspection Services passenger capacity enhancements

East/west security checkpoints

Automated people mover automatic train operation controls rehabilitation

Baggage systems rehabilitation

Terminal infrastructure improvements

Common use terminal equipment/common use self service improvements

Airfield capacity improvements

Decision Date: May 31, 2007.

FOR FURTHER INFORMATION CONTACT: Susan Moore, Orlando Airports District Office, (407) 812-6331, extension 120.

Public Agency: City of San Jose, California.

Application Number: 06-15-C-00-SJC.

Application Type: Impose and use a PFC.

PFC Level: $4.50.

Total PFC Revenue Approved in This Decision: $495,095,000.

Earliest Charge Effective Date: October 1, 2014.

Estimated Charge Expiration Date: December 1, 2026.

Class of Air Carriers Not Required To Collect PFC's: Nonscheduled/on demand air carriers filing FAA Form 1800-31.

Determination: Approved. Based on information submitted in the public agency's application, the FAA has determined that the proposed class accounts for less than 1 percent of the total annual enplanements at Norman Y. Mineta San Jose International Airport.

Brief Description of Project Approved for Collection and Use: Terminal B—north concourse.

Decision Date: June 13, 2007.

FOR FURTHER INFORMATION CONTACT: Ron Biaoco, San Francisco Airports District Office, (650) 876-2778, extension 626.

Public Agency: County of Pitken, Aspen, Colorado.

Application Number: 07-06-C-00-ASE.

Application Type: Impose and use a PFC.

PFC Level: $4.50.

Total PFC Revenue Approved in This Decision: $2,078,000.

Earliest Charge Effective Date: November 1, 2009.

Estimated Charge Expiration Date: August 1, 2010.

Class of Air Carriers Not Required To Collect PFC's: Air taxi/commercial operators filing FAA Form 1800-31.

Determination: Approved. Based on information submitted in the public agency's application, the FAA has determined that the proposed class accounts for less than 1 percent of the total annual enplanements at Aspen-Pitkin County/Sardy Field.

Brief Description of Projects Approved for Collection and Use:

Acquire aircraft rescue and firefighting vehicle

Terminal area planning study

Airport utility master plan

PFC application and administration fees

Decision Date: June 15, 2007.

FOR FURTHER INFORMATION CONTACT: Chris Schaffer, Denver Airports District Office, (303) 342-1258.

Public Agency: Springfield Airport Authority, Springfield, Illinois.

Application Number: 07-11-C-00-SPI.

Application Type: Impose and use a PFC.

PFC Level: $4.50.

Total PFC Revenue Approved in This Decision: $447,000.

Earliest Charge Effective Date: September 1, 2007.

Estimated Charge Expiration Date: May 1, 2009.

Class of Air Carriers Not Required To Collect PFC's: On demand air taxis.

Determination: Approved. Based on information submitted in the public agency's application, the FAA has determined that the proposed class accounts for less than 1 percent of the total annual enplanements at Abraham Lincoln Capital Airport.

Brief Description of Projects Approved for Collection and Use:

Replace baggage claim equipment

Upgrade security system preliminary phase

Upgrade security system design phase

Replace emergency generator

Renovate checkpoint office (old entrance)

Decision Date: June 15, 2007.

FOR FURTHER INFORMATION CONTACT: Chad Oliver, Chicago Airports District Office, (847) 294-7199.

Public Agency: Evansville-Vanderburgh Airport Authority, Evansville, Indiana.

Application Number: 07-01-C-00-EVV.

Application Type: Impose and use a PFC.

PFC Level: $4.50.

Total PFC Revenue Approved in This Decision: $1,270,789.

Earliest Charge Effective Date: August 1, 2007.

Estimated Charge Expiration Date: November 1, 2008.

Class of Air Carriers Not Required To Collect PFC's: Air taxi operators filing FAA Form 1800-31.

Determination: Approved. Based on information submitted in the public agency's application, the FAA has determined that the proposed class accounts for less than 1 percent of the total annual enplanements at Evansville Regional Airport.

Brief Description of Projects Approved for Collection and Use:

Construct power vault

Runway lighting modifications

Apron lighting modifications

Old terminal demolition

Plans and specifications to convert runway 9/27 to a taxiway

Partial overlay of runway 4/22

Expansion of general aviation apron

Design and construct airport guidance signs

Overlay runway 4/22

General aviation apron overlay

Environmental assessment for the runway 18/36 extension

Design and relocation of taxiway C

Design and perimeter fencing replacement

Construct perimeter fence

Preliminary engineering studies to rehabilitate runway 18/36

Purchase replacement aircraft rescue and firefighting vehicle

Rehabilitate runway 18/36

Rehabilitate runway 9/27

Rehabilitate runway 4/22 and taxiway H

Design rehabilitation of runway 4/22 and taxiway H

Rehabilitate runway 4/22, phase 2

Runway 4/22 and taxiway H edge lighting

Partial overlay of taxiway A

Property acquisition and demolition

Property acquisition—parcels 127, 129, 131, and 139

Airport layout plan update—property map

Improve security fence

Runway 18/36 extension, phase 1

Runway 4/22 perimeter road replacement

Runway 18/36 extension, phase 2

Runway 18/36 extension, phase 2B

Construct perimeter road

Runway 18/36 extension, phase 3

Runway 18/36 extension, phase 3B

Runway 18/36 extension, phase 4

Airport master plan update

Construct taxiway A2

Rehabilitate taxiway lighting

Install precision approach path indicator on runway 18/36

Rehabilitate runway 4/22 intersections

Runway 18/36 extension land acquisition

Purchase aircraft rescue and firefighting vehicle

Realign and rehabilitate taxiway C

Video security system

Decision Date: June 18, 2007.

FOR FURTHER INFORMATION CONTACT: Sandy Lyman, Chicago Airports District Office, (847) 294-7525.

Public Agency: City of Redding, California.

Application Number: 07-03-C-00-RDD.

Application Type: Impose and use a PFC.

PFC Level: $4.50.

Total PFC Revenue Approved in This Decision: $809,295.

Earliest Charge Effective Date: August 1, 2007.

Estimated Charge Expiration Date: September 1, 2010.

Class of Air Carriers Not Required To Collect PFC's: None.

Brief Description of Projects Approved for Collection and Use:

Install security fencing

Rehabilitate general aviation apron, phases II and III, and construct fire protection waterline

Design and construct aircraft rescue and firefighting building, phases II, III, and IV

Design and rehabilitate taxiways A and B including medium intensity taxiway lighting

Terminal building rehabilitation (design), phases I and II

Land acquisition for approach protection and environmental assessment (148 acres and parcel 47)

Acquire handicap passenger ramp

PFC application costs

Emergency communication system upgrade

Acquire new sweeper and truck

Design and construct T-hangar taxilane and west taxilane

Municipal Boulevard extension (access road)

Brief Description of Disapproved Project: Maintenance/storage building.

Determination: This project is not eligible in accordance with paragraph 547(e) of FAA Order 5100.38C, Airport Improvement Program Handbook (June 28, 2005). Therefore, this project does not meet the requirements of 158.15(b).

Decision Date: June 27, 2007.

FOR FURTHER INFORMATION CONTACT: Ron Biaoco, San Francisco Airports District Office, (650) 876-2778, extension 626.

Public Agency: Waterloo Airport Commission, Waterloo, Iowa.

Application Number: 07-07-C-00-ALO.

Application Type: Impose and use a PFC.

PFC Level: $4.50.

Total PFC Revenue Approved in This Decision: $356,706.

Earliest Charge Effective Date: March 1, 2008.

Estimated Charge Expiration Date: March 1, 2011.

Class of Air Carriers Not Required To Collect PFC's: None.

Brief Description of Projects Approved for Collection and Use:

Runway 12/30 rehabilitation and edge lighting

Taxiway A reconstruction

Rehabilitation of general aviation apron and taxilane

Obstruction survey

Master plan update

Replace snow removal equipment

PFC administration costs

Decision Date: June 27, 2007.

FOR FURTHER INFORMATION CONTACT: Lorna Sandridge, Central Region Airports Division, (816) 329-2641.

Amendments to PFC Approvals
Amendment No., city, state | Amendment approved date | Original approved net PFC revenue | Amended approved net PFC revenue | Original estimated charge exp. date | Amended estimated charge exp. date
92-01-C-07-HSV Huntsville, AL | 05/29/07 | $15,363,674 | $15,362,369 | 01/01/03 | 01/01/03
93-02-U-01-HSV Huntsville, AL | 05/29/07 | NA | NA | 01/01/03 | 01/01/03
92-01-C-08-HSV Huntsville, AL | 05/29/07 | 15,362,369 | 15,352,369 | 01/01/03 | 01/01/03
96-01-1-03-TVC Traverse City, MI | 05/29/07 | 14,354,594 | 3,637,041 | 01/01/17 | 10/01/03
01-02-C-01-TVC Traverse City, MI | 05/29/07 | 420,019 | 434,239 | 01/01/18 | 01/01/18
01-02-C-02-TVC Traverse City, MI | 05/29/07 | 434,239 | 434,239 | 01/01/18 | 01/01/18
02-07-C-01-MFR Medford, OR | 06/04/07 | 816,000 | 873,613 | 07/01/03 | 06/01/04
02-08-C-01-MFR Medford, OR | 06/04/07 | 105,000 | 95,448 | 07/01/04 | 09/01/04
01-07-C-05-CVG Covington, KY | 06/13/07 | 39,517,000 | 39,590,000 | 02/01/04 | 02/01/04
05-09-C-04-CVG Covington, KY | 06/13/07 | 43,794,000 | 47,705,000 | 12/01/13 | 03/01/14
06-10-C-02-CVG Covington, KY | 06/13/07 | 33,010,000 | 45,107,000 | 09/01/14 | 07/01/15
04-06-C-01-GFK Grand Forks, ND | 06/14/07 | 1,842,016 | 1,506,569 | 04/01/08 | 10/01/08
99-03-C-03-JAN Jackson, MS | 06/15/07 | 11,925,562 | 12,467,652 | 01/01/06 | 01/01/06
96-02-C-03-IND Indianapolis, IN | 06/18/07 | 11,869,241 | 12,263,017 | 10/01/01 | 10/01/01
95-01-C-02-SPW Spencer, IA | 06/19/07 | 111,500 | 77,638 | 03/01/06 | 03/01/06
*01-01-C-02-SAT San Antonio, TX | 06/26/07 | 116,417,900 | 238,029,391 | 11/01/12 | 01/01/13
05-04-C-01-SAT San Antonio, TX | 06/26/07 | 50,682,244 | 118,303,705 | 04/01/16 | 03/01/18
01-04-C-02-ALO Waterloo, IA | 06/27/07 | 34,700 | 0 | 07/01/04 | 06/01/04
06-03-C-01-MYR Myrtle Beach, SC | 06/27/07 | 111,182,626 | 0 | 11/01/29 | 08/01/07
Note: The amendment denoted by an asterisk (*) includes a change to the PFC level charged from $3.00 per enplaned passenger to $4.50 per enplaned passenger. For San Antonio, TX, this change is effective on October 1, 2007.

Issued in Washington, DC on July 3, 2007.
Joe Hebert,
Manager, Financial Analysis and Passenger Facility Charge Branch.

[FR Doc. 07-3340 Filed 7-9-07; 8:45 am]

BILLING CODE 4910-13-M